DEPARTMENT OF THE INTERIOR

Bureau of Indian Affairs

25 CFR Part 30

[189A2100DD/AAKC001030/A0A501010.999900 253G]

Bureau of Indian Education Standards, Assessments, and Accountability System Negotiated Rulemaking Committee Establishment; Proposed Membership

AGENCY: Bureau of Indian Affairs, Interior.

ACTION: Proposed membership of Committee and request for nominations.

SUMMARY: The U.S. Department of the Interior is announcing the proposed members to form the Bureau of Indian Education (BIE) Standards, Assessments, and Accountability System Negotiated Rulemaking Committee (Committee) which will advise the Secretary of the Interior (Secretary) through the BIE on a proposed rule to revise the Adequate Yearly Progress regulation as previously announced in the Federal Register. This notice solicits comments on the proposed membership, and invites additional nominations for Committee members who will adequately represent the interests that are likely to be significantly affected by the proposed rule. The Secretary also proposes to appoint Federal representatives to the Committee as listed.

DATES: Comments must be submitted no later than May 17, 2018.

ADDRESSES: Send comments and nominations to the Designated Federal Officer, Ms. Sue Bement, Education Program Specialist, Bureau of Indian Education, by any of the following methods:

• (Preferred method) Email to: BIEcomments@bia.gov;

• Mail, hand-carry or use an overnight courier service to the Designated Federal Officer, Ms. Sue Bement, c/o The Office of Regulatory Affairs and Collaborative Action, 1001 Indian School Road NW, Suite 312, Albuquerque, NM 87104.

FOR FURTHER INFORMATION CONTACT: The Designated Federal Officer, Ms. Sue Bement, Bureau of Indian Education; email: BIEcomments@bia.gov; phone: (952) 851-5427.

SUPPLEMENTARY INFORMATION:

Background

The purpose of the BIE Committee is to serve as an advisory committee under the Federal Advisory Committee Act (FACA) and the Negotiated Rulemaking Act (NRA). Pursuant to the Federal Register notice of intent (82 FR 43199), the Secretary has selected 13 Tribal representatives and 5 Federal representatives for the Committee, for a proposed total of 18 members.

Every Student Succeeds Act

The Every Student Succeeds Act (ESSA) reauthorizes and amends the Elementary and Secondary Education Act of 1965 (ESEA). ESEA Section 8204, as amended by ESSA directs the Secretary of the Interior, in consultation with the Secretary of Education, if so requested, to use a negotiated rulemaking process to develop regulations for implementation of the Secretary of the Interior's responsibility to define standards, assessments, and an accountability system for Bureau-funded schools. The Committee will recommend regulations that will replace the existing regulations at 25 CFR part 30 and implement the Secretary's new statutory responsibility to define standards, assessments, and an accountability system for Bureau-funded schools consistent with ESEA section 1111, as amended, on a national, regional, or Tribal basis, as appropriate, taking into account the unique circumstances and needs of such schools and the students served by such schools.

ESEA section 8204 also provides that if a Tribal governing body or school board of a Bureau-funded school determines the requirements established by the Secretary of the Interior are inappropriate, they may waive, in part or in whole, such requirements. Where such requirements are waived, the Tribal governing body or school board must, within 60 days, submit to the Secretary of the Interior a proposal for alternative standards, assessments, and an accountability system, if applicable, consistent with ESEA section 1111. The proposal will be approved by the Secretary of the Interior and the Secretary of Education, unless the proposed standards, assessments, and accountability system do not meet the requirements of ESEA section 1111, taking into account the unique circumstances and needs of such school or schools and the students served. Additionally, a Tribal governing body or school board of a Bureau-funded school seeking a waiver may request, technical assistance from the Secretary of the Interior and the Secretary of Education.

Proposed Work of the Committee

The objectives of the Committee are to represent the interests that will be significantly affected by the final regulations, negotiate in good faith, and reach consensus, where possible, on recommendations to the Secretary for the proposed regulations.

The Committee will be charged, consistent with ESEA section 8204, with developing draft regulations to implement the Secretary's responsibility to define the standards, assessments, and an accountability system, consistent with ESEA Section 1111, for Bureau-funded schools. The draft regulations will be considered by the Secretary and subject to government-to-government consultation. As a part of its deliberations, the Committee will consider the appropriate scope of the draft regulations, e.g., national, regional, or Tribal basis, as appropriate, taking into account the unique circumstances and needs of such schools and the students served by such schools, and how BIE will implement such regulations.

The BIE encourages Tribal self-determination in Native education, by encouraging governing Tribes or school boards to develop alternative standards, assessments, and an accountability system, and by providing technical assistance. Therefore, the Committee will also be asked to provide recommendations on how the BIE could best provide technical assistance under ESEA section 8204 to Tribes who opt to exercise their authority to waive in part or in whole the Secretary's definition of standards, assessments, and accountability system.

Since the contemplated regulations must be in place as soon as possible, the Committee will be expected to meet frequently within a short time frame. The BIE currently anticipates up to four meetings, with each meeting lasting two to three days in length. The BIE has dedicated resources required to: Ensure the Committee is able to conduct meetings, provide technical assistance, and provide any additional support required to fulfill the Committee's responsibilities.

Proposed Tribal Committee Members

On September 14, 2017, the BIE published a Federal Register notice of intent (82 FR 43199) requesting comments and nominations for Tribal representatives for the Committee. The comment period for that notice of intent closed October 16, 2017.

Within the notice, the BIE solicited comments on the proposal to establish the Committee, including comments on any additional interests not identified. The BIE solicited nominations from Tribes whose students attend Bureau-funded schools operated by either BIE or by the Tribe through a contract or grant who would be affected by the final rule to nominate a representative and alternate to serve when the representative is unavailable for membership on the Committee. The BIE also invited nominations for Committee members who will adequately represent the interests that are likely to be significantly affected by the proposed rule such as: Students enrolled, or parents of students enrolled at the 174 Bureau-funded schools, school teachers, and administrators, Tribes, and Indian communities served by these schools.

The proposed Committee was selected based upon nominations submitted through the process identified in the Federal Register (82 FR 43199) dated September 14, 2017, under the “Nominations” section. The Secretary did not consider nominations that were received in any other manner or were received after the close of the comment period.

The Secretary proposes the following Tribal representatives for the Committee:

Proposed committee member | Nominated by
Gloria Coats-Kitsopoulos, Superintendent, American Horse School | Oglala Sioux Tribe (South Dakota).
Charles Cuny, Superintendent, Little Wound School | Oglala Sioux Tribe (South Dakota).
Michael Debrieo, Principal, Kha'p'o Community School | Santa Clara Indian Pueblo (New Mexico).
Ronald Etheridge, Deputy Executive Director of Education Services, Cherokee Nation | Intertribal Council of the Five Civilized Tribes (Oklahoma).
Leslie Harper-Liberty, Government Relations Specialist, Leech Lake Band of Ojibwe | Leech Lake Band of Ojibwe (Minnesota).
Tommy Lewis, Jr., Superintendent of Schools, Navajo Nation | National Indian Education Association (Arizona).
Jennifer Lynn McLeod Tyson, Tribal Councilwoman, Sault Ste. Marie Tribe of Chippewa Indians | Sault Ste. Marie Tribe of Chippewa Indians (Michigan).
Patricia Sandoval, Director of Planning and Evaluation, Santa Fe Indian School | Pueblo of Laguna (New Mexico).
Delima “Bonnie” Rose Payer, Teacher, Ojibwa Indian School on the Turtle Mountain Reservation | American Federation of Teachers (North Dakota).
Richard St. Germaine, Commissioner, Education for the Mille Lacs Band of Ojibwe | Mille Lacs Band of Ojibwe (Minnesota).
Sherry Tubby, Exceptional Education Coordinator, Choctaw Tribal Schools | Mississippi Band of Choctaw Indians (Mississippi).

The Secretary proposes the following alternate Tribal representatives for the Committee:

Proposed alternate committee member | Nominated by
Lucinda Campbell, Lukachukai Community Board of Education, Inc. | Diné Grant Schools Association (Arizona).
Franklin No Runner, Superintendent, St. Stephens Indian School | Northern Arapaho Business Council (Wyoming).

Proposed Federal Committee Members

The Designated Federal Officer for the Committee will be Ms. Sue Bement, Bureau of Indian Education. The Secretary proposes the following Federal representatives for the Committee:

Name | Affiliation
Jeffrey Hamley, Associate Deputy Director, Division of Performance and Accountability | Bureau of Indian Education.
Lora Braucher, Superintendent, Chemawa Indian School | Bureau of Indian Education.
Brian Quint, Attorney-Advisor | Office of the Solicitor.

The Secretary proposes the following alternate Federal representatives for the Committee:

Name | Affiliation
Jimmy Hastings, Education Program Administrator | Bureau of Indian Education.
Brenda Riel, Attorney-Advisor | Office of the Solicitor.

Comments

The Secretary solicited comments on the proposal to establish the Committee and received one response from the National Indian Education Association (NIEA) that was submitted through the process identified in the Federal Register (82 FR 43199) dated September 14, 2017. The Secretary did not consider comments that were received in any other manner or were received after the close of the comment period.

The comments received from NIEA: (1) Support the proposal to form a negotiated rulemaking committee, (2) encourage the Secretary to include Native educators, researchers, and evaluators on the Committee, and (3) encourage the Secretary to ensure that representatives are served by Bureau-funded schools.

Both the Secretary and the BIE believe the proposed representatives address NIEA's comments to ensure the Native students are best supported and evaluated holistically. The proposed representatives carry a wide range of experiences, knowledge, and understanding to support Native students both academically and culturally.

Nominations

If you are a Tribe with Bureau-funded schools, an Indian education organization, or an interested individual, we invite you to comment on the proposed nominations in this notice or to nominate other persons for membership on the Committee. The Committee membership should reflect the diversity of Tribal interests, and Tribes should nominate representatives and alternates who will:

• Have knowledge of school standards, assessments, and accountability systems;

• Have relevant experiences as past or present superintendents, principals, teachers, or school board members;

• Are able to coordinate, to the extent possible, with other interests who may not be represented on the Committee;

• Are able to represent one or more of the specified interests with the authority to embody the views of that or those interest(s), communicate with interested constituents, and have a clear means to reach agreement on behalf of the interest(s);

• Are able to negotiate effectively on behalf of the interest(s) represented;

• Are able to commit the time and effort required to attend and prepare for meetings; and

• Are able to collaborate among diverse parties in a consensus-seeking process.

The Secretary will consider nominations for representatives only if they are nominated through the process identified in this Notice and in the Federal Register Notice of Intent (82 FR 43199). The Secretary will not consider any nominations received in any other manner. The Secretary will not consider nominations for Federal representatives; only the Secretary may nominate Federal employees to the Committee.

Nominations must include the following information about each nominee:

(1) A current letter from the entity representing one of the interest(s) identified supporting the nomination of the individual to serve as a representative for the Committee;

(2) A resume reflecting the nominee's qualifications and experience in Indian education; resume to include the nominee's name, Tribal affiliation (if applicable), job title, major job duties, employer, business address, business telephone and fax numbers (and business email address, if applicable);

(3) The interest(s) to be represented by the nominee identified in Section V, in the Federal Register (82 FR 43199) published September 14, 2017, and whether the nominee will represent other interest(s) related to this rulemaking;

(4) A brief description of how the nominee will represent the views of the identified interest(s), communicate with constituents, and have a clear means to reach agreement on behalf of the interest(s) they are representing; and

(5) A statement on whether the nominee is only representing one interest or whether the expectation is that the nominee represents a specific group of interests.

To be considered, nominations must be received by the close of business on the date listed in the DATES section, at the location indicated in the ADDRESSES section.

III. Public Disclosure of Comments

Before including your address, phone number, email address, or other personal identifying information in your comment, you should be aware that your entire nomination submission—including your personal identifying information—may be made publically available at any time. While you can ask us in your submission to withhold your personal identifying information from public review, we cannot guarantee that we will be able to do so.

Authority: The Elementary and Secondary Education Act of 1965, as amended, 20 U.S.C. 6301 et seq.

Dated: April 9, 2018.
John Tahsuda,
Principal Deputy Assistant Secretary—Indian Affairs, Exercising the Authority of the Assistant Secretary—Indian Affairs.

[FR Doc. 2018-07922 Filed 4-16-18; 8:45 am]

BILLING CODE 4337-15-P